SMALL BUSINESS ADMINISTRATION

[Declaration of Disaster #3521]

State of Nebraska

Thayer County and the contiguous counties of Clay, Fillmore, Jefferson, Nuckolls, and Saline in the State of Nebraska; and Republic and Washington Counties in the State of Kansas constitute a disaster area due to severe storms, hail, flooding, and tornadoes that occurred on June 22 and June 23, 2003. Applications for loans for physical damage as a result of this disaster may be filed until the close of business on September 8, 2003 and for economic injury until the close of business on April 12, 2004 at the address listed below or other locally announced locations: Small Business Administration, Disaster Area 3 Office, 4400 Amon Carter Boulevard, Suite 102, Forth Worth, TX 76155.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For Economic Injury:
Businesses and small agricultural cooperatives without credit available elsewhere | 2.953

The numbers assigned to this disaster for physical damage are 352111 for Nebraska and 352211 for Kansas. For economic injury, the numbers are 9W2400 for Nebraska and 9W2500 for Kansas.

(Catalog of Federal Domestic Assistance Program Nos. 59002 and 59008)
Dated: July 10, 2003
Hector V. Barreto,
Administrator.

[FR Doc. 03-17965 Filed 7-15-03; 8:45 am]

BILLING CODE 8025-01-P